DEPARTMENT OF HOMELAND SECURITY

Coast Guard

[Docket No. USCG-2009-0676]

Chemical Transportation Advisory Committee

AGENCY: Coast Guard, DHS.

ACTION: Supplemental notice of meetings.

SUMMARY: The Chemical Transportation Advisory Committee (CTAC) and a selection of its subcommittees and working groups will hold meetings to discuss various issues relating to the marine transportation of hazardous materials in bulk. These meetings will be open to the public. The subcommittees that will meet are Outreach, National Fire Protection Association (NFPA) 472 Standard, Hazardous Cargo Transportation Security (HCTS), and International Maritime Solid Bulk Cargoes (IMSBC) Code. The working groups that will meet are Barge Emission and Hazard Communication, the International Convention for the Prevention of Pollution from Ships (MARPOL), and First Responders.

DATES: CTAC will meet on August 13, 2009 from 9 a.m. to 3 p.m. The Outreach subcommittee will meet on Tuesday, August 11, 2009, from 8:30 a.m. to 10:30 a.m. The MARPOL working group will meet on Tuesday, August 11, 2009, from 10:30 a.m. to 12 p.m. The NFPA 472 Standard subcommittee will meet on Tuesday, August 11, 2009, from 12:45 p.m. to 1:45 p.m. The First Responders working group will meet on Tuesday, August 11, 2009, from 1:45 p.m. to 3 p.m. The IMSBC Code subcommittee will meet on Wednesday, August 12, 2009, from 8:30 a.m. to 10 a.m. The Barge Emission and Hazard Communication working group will meet on Wednesday, August 12, 2009, from 10 a.m. to 12 p.m. The HCTS subcommittee will meet on Wednesday, August 12, 2009, from 1:15 p.m. to 4 p.m.

ADDRESSES: CTAC, its subcommittees and working groups will meet at the U.S. Coast Guard Headquarters, 2100 2nd Street SW., Washington, DC. If interested in making presentations, please send your request to COMMANDANT (CG-5223), ATTN (CG-5223), U.S. Coast Guard, 2100 2nd St., SW., STOP 7126, Washington, DC 20593-7126. Presentations can be oral or in writing.

FOR FURTHER INFORMATION CONTACT: Commander Michael Roldan, Designated Federal Officer (DFO) of CTAC at 202-372-1420, or Ms. Sara Ju, Assistant to the DFO, at 202-372-1422, fax 202-372-1926.

SUPPLEMENTARY INFORMATION: Notice of these meetings is given under the Federal Advisory Committee Act, 5 U.S.C. App. 2 (Pub. L. 92-463).

Previous Notice

A previous notice was published in the Federal Register on July 24, 2009, which informed the public that CTAC and its subcommittees and working groups will meet at the U.S. Coast Guard Headquarters in August of this year, and provided agendas for those meetings (74 FR 36733). That notice complied with the requirement in 41 CFR 102-3.150 to inform the public of FACA meetings at least 15 calendar days in advance. Although the previous notice provided all other necessary information about the meetings described above, it inadvertently omitted the date and time of the CTAC meeting and this notice corrects that omission.

Dated: July 30, 2009.
J.G. Lantz,
Director of Commercial Regulations and Standards.

[FR Doc. E9-18630 Filed 8-4-09; 8:45 am]

BILLING CODE 4910-15-P